NATIONAL SCIENCE FOUNDATION

Sunshine Act Meetings

The National Science Board's Committee on Awards & Facilities hereby gives notice of the scheduling of a teleconference for the transaction of National Science Board business pursuant to the National Science Foundation Act and the Government in the Sunshine Act.

TIME AND DATE: Tuesday, February 22, 2022, from 1:00-1:45 p.m. EST.

PLACE: This meeting will be held by teleconference through the National Science Foundation.

STATUS: Open.

MATTERS TO BE CONSIDERED: The agenda of the teleconference is: Committee Chair's opening remarks; approval of prior meeting minutes; schedule of context and action items; and Information Item: Antarctic research vessel design stage briefing.

CONTACT PERSON FOR MORE INFORMATION: Point of contact for this meeting is: Chris Blair, cblair@nsf.gov, 703/292-7000. The You Tube link to watch this meeting live is: https://youtu.be/rMKInQzCQ28. Meeting updates may be found at the National Science Board website www.nsf.gov/nsb.

Chris Blair,
Executive Assistant to the National Science Board Office.

[FR Doc. 2022-03639 Filed 2-16-22; 11:15 am]

BILLING CODE 7555-01-P